GENERAL SERVICES ADMINISTRATION/U.S. OFFICE OF PERSONNEL MANAGEMENT

Office of Communications

Cancellation of a Standard Form

AGENCY: General Services Administration.

ACTION: Notice.

SUMMARY: The U.S. Office of Personnel Management is cancelling the following Standard Form because of low usage: SF 144A, Statement of Prior Federal Service—Worksheet.

DATES: Effective January 8, 2001.

FOR FURTHER INFORMATION CONTACT: Ms. Barbara Williams, General Services Administration, (202) 501-0581.

Dated: December 20, 2000.
Barbara M. Williams,
Deputy Standard and Optional Forms Management Officer.

[FR Doc. 01-427 Filed 1-5-01; 8:45 am]

BILLING CODE 6820-34-M